DEPARTMENT OF JUSTICE

Office of Justice Programs

Agency Information Collection Activities: Proposed Collection; Comments Requested

ACTION: 30-day notice of information collection under review: Civil Justice Survey of State Courts, 2005.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 70, Number 70, page 19503 on April 13, 2005, allowing for a 60-day comment period.

The purpose of this notice is to allow for an additional 30 days for public comment until August 1, 2005. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Existing Collection In Use Without an OMB Control Number.

(2) Title of the Form/Collection: Civil Justice Survey of State Courts, 2005.

(3) Agency form number, if any, and the applicable component of the Department sponsoring the collection: Form Number: CJSC. Bureau of Justice Statistics, Office of Justice Programs.

(4) Affected public who will be asked or required to respond, as well as a brief abstract: Primary: State, local or tribal governments. The Civil Justice Survey of State courts, 2005. (CJSC 05) is the only collection effort that provides basic information on civil cases adjudicated in state trial courts in a sample of the Nation's 75 most populous counties. Information collected includes the types of claims brought by litigants in civil disputes, plaintiff win rates, compensatory and punitive damage awards, case processing time, and post verdict activity. The CJSC 05 provides policymakers, researchers, and lawyers with an opportunity to examine how civil lawsuits are processed in state courts.

(5) An estimate of the total number of respondents and the amount of time estimated for an average respondent to respond/reply: It is estimated that information will be collected on a total of 30,000 civil cases from 46 responding counties. Annual cost to the respondents is based on the number of hours involved in providing information from court records for the jury trial, bench trial, and non-trial data collection forms. Public reporting burden for this collection of information is estimated to average 30 minutes per data collection form. The estimate of hour burden is based on prior CJSC surveys.

(6) An estimate of the total public burden (in hours) associated with the collection: The estimated public burden associated with this collection is 15,000 hours.

If additional information is required contact: Brenda E. Dyer, Department Clearance Officer, United States Department of Justice, Justice Management Division, Policy and Planning Staff, Patrick Henry Building, Suite 1600, 601 D Street, NW., Washington, DC 20530.

Dated: June 27, 2005.
Brenda E. Dyer,
Department Clearance Officer, Department of Justice.

[FR Doc. 05-12913 Filed 6-29-05; 8:45 am]

BILLING CODE 4410-18-P